DEPARTMENT OF LABOR

Employment and Training Administration

Agency Information Collection Activities; Comment Request; YouthBuild (YB) Work Site Description and Housing Census

ACTION: Notice.

SUMMARY: The Department of Labor's (DOL) Employment and Training Administration (ETA) is soliciting comments concerning a proposed revision for information collection request (ICR) titled, “YouthBuild Work Site Description and Housing Census.” This comment request is part of continuing Departmental efforts to reduce paperwork and respondent burden in accordance with the Paperwork Reduction Act of 1995 (PRA).

DATES: Consideration will be given to all written comments received by May 20, 2024.

ADDRESSES: A copy of this ICR with applicable supporting documentation, including a description of the likely respondents, proposed frequency of response, and estimated total burden, may be obtained free by contacting Stephanie Pena by telephone at (202) 693-3153 (this is not a toll-free number), or by email at pena.stephanie.l@dol.gov. For persons with a hearing or speech disability who need assistance to use the telephone system, please dial 711 to access telecommunications relay services. Submit written comments regarding, or requests for a copy of, this ICR by email: pena.stephanie.l@dol.gov; or by fax: (202) 693-3113.

FOR FURTHER INFORMATION CONTACT: Stephanie Pena by telephone at (202) 693-3153 (this is not a toll-free number) or by email at pena.stephanie.l@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The YouthBuild Work Site Description and Housing Census (ETA-9143) form collects information about the proposed work sites for low-income or homeless individuals or families where YouthBuild participants receive training and participate in construction skills activities. This form also collects information annually on the number of housing units that grantees build or renovate each year, which allows ETA to demonstrate the annual increase in affordable housing supported by YouthBuild. ETA is proposing changes to the Annual Housing Census portion of ETA-9143 form that reduces the burden collection.

The accuracy, reliability, and comparability of program reports submitted by grantees using Federal funds are fundamental elements of good public administration and are necessary tools for maintaining and demonstrating system integrity. The Workforce Innovation and Opportunity Act (29 U.S.C. 3101) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0464.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: YouthBuild Work Site Description and Housing Census.

Form: ETA-9143.

OMB Control Number: 1205-0464.

Affected Public: Private sector.

Estimated Number of Respondents: 650.

Frequency: Varies.

Total Estimated Annual Responses: 650.

Estimated Average Time per Response: 92 hours.

Estimated Total Annual Burden Hours: 196.6 hours.

Total Estimated Annual Other Cost Burden: $3,912.34.

Authority: 44 U.S.C. 3506(c)(2)(A).

Laura P. Watson,
Deputy Assistant Secretary for Employment and Training, Labor.

[FR Doc. 2024-05804 Filed 3-19-24; 8:45 am]

BILLING CODE 4510-FT-P